DEPARTMENT OF ENERGY

Federal Energy Regulatory Commission

[Docket Nos. CP23-516-000; CP23-516-001]

East Tennessee Natural Gas, LLC; Supplemental Notice of Intent To Prepare an Environmental Impact Statement for the Proposed Ridgeline Expansion Project Amendment, Request for Comments on Environmental Issues, and Notice of Revised Schedule for Environmental Review

On September 18, 2023, the Federal Energy Regulatory Commission (FERC or Commission) issued in Docket No. CP23-516-000 a Notice of Intent to Prepare an Environmental Impact Statement for the Proposed Ridgeline Expansion Project, Request for Comments on Environmental Issues, and Schedule for Environmental Review (NOI).¹ On December 18, 2023 East Tennessee Natural Gas, LLC (East Tennessee) incorporated minor adjustments to the proposed Ridgeline Expansion Project (Project) pipeline centerline and workspaces and relocated the Kingston Delivery Meter Station to the pipeline terminus. On December 19, 2023, East Tennessee amended its proposed Project to increase the pipeline diameter from 24 to 30 inches along 8 miles in Morgan and Roane Counties (formerly referred to as the “Lateral”). This Supplemental Notice is being issued to seek comments on the Project modifications, filed on both December 18 and 19, 2023, and opens a new scoping period for interested parties to file comments on environmental issues.

¹ The NOI can be found at accession number 20230918-3011 at elibrary.ferc.gov.

The September 18, 2023 NOI announced that the FERC staff will prepare an environmental impact statement (EIS) to address the environmental impacts of the Project. Please refer to the NOI for more information about the facilities proposed by East Tennessee in Trousdale, Smith, Jackson, Putnam, Overton, Fentress, Morgan, and Roane counties, Tennessee. The Commission will use this EIS in its decision-making process to determine whether the Project, as modified, is in the public convenience and necessity.

You can make a difference by providing us with your specific comments or concerns about the Project modifications. Your comments should focus on the potential environmental effects, reasonable alternatives, and measures to avoid or lessen environmental impacts. To ensure that your comments are timely and properly recorded, please send your comments so that the Commission receives them in Washington, DC on or before February 26, 2024.

The Commission previously solicited public input on the Project in the fall of 2023. We ² are specifically seeking comments on the pipeline centerline and workspace adjustments to help the Commission staff determine what issues need to be evaluated in the EIS. If you have previously submitted comments during the pre-filing review in docket no. PF22-7-000 or in response to the NOI, you do not need to resubmit your comments.

² “We,” “us,” and “our” refer to the environmental staff of the Commission's Office of Energy Projects.

This Supplemental Notice is being sent to the Commission's current environmental mailing list for the Project. State and local government representatives are asked to notify their constituents of this proposed Project modifications and encourage them to comment on their areas of concern.

If you are a landowner receiving this notice, a pipeline company representative may contact you about the acquisition of an easement to construct, operate, and maintain the proposed facilities. The company would seek to negotiate a mutually acceptable agreement. However, if the Commission approves the Project, that approval conveys with it the right of eminent domain. Therefore, if the easement negotiations fail to produce an agreement, the pipeline company could initiate condemnation proceedings where compensation would be determined in accordance with state law.

A fact sheet prepared by FERC entitled “An Interstate Natural Gas Facility On My Land? What Do I Need To Know?” is available for viewing on the FERC website (www.ferc.gov). This fact sheet addresses a number of typically asked questions, including the use of eminent domain and how to participate in the Commission's proceedings.

Public Participation

There are three methods you can use to submit your comments to the Commission.

Please carefully follow these instructions so that your comments are properly recorded. The Commission encourages electronic filing of comments and has staff available to assist you at (866) 208-3676 or FercOnlineSupport@ferc.gov.

(1) You can file your comments electronically using the eComment feature, which is located on the Commission's website (www.ferc.gov) under the link to FERC Online. Using eComment is an easy method for submitting brief, text-only comments on a project;

(2) You can file your comments electronically by using the eFiling feature, which is located on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”; or

(3) You can file a paper copy of your comments by mailing them to the Commission. Be sure to reference the project docket number (CP23-516-001) on your letter. Submissions sent via the U.S. Postal Service must be addressed to: Debbie-Anne Reese, Acting Secretary, Federal Energy Regulatory Commission, 888 First Street NE, Room 1A, Washington, DC 20426. Submissions sent via any other carrier must be addressed to: Debbie-Anne Reese, Acting Secretary, Federal Energy Regulatory Commission, 12225 Wilkins Avenue, Rockville, Maryland 20852.

Additionally, the Commission offers a free service called eSubscription which makes it easy to stay informed of all issuances and submittals regarding the dockets/projects to which you subscribe. These instant email notifications are the fastest way to receive notification and provide a link to the document files which can reduce the amount of time you spend researching proceedings. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Summary of Project Modifications

Modifications East Tennessee filed on December 18, 2023 consist of the following changes:

• minor (300 feet or less) adjustments to the Mainline centerline and workspace areas to address landowner concerns, constructability constraints, and/or to avoid sensitive resources;

• modifications to the Kingston Delivery Meter Station and Crossover as follows:

relocation of the Kingston Delivery Meter Station to the pipeline terminus and installation of a new mainline valve (Valve #10) at milepost (MP) 122.2R at the shippers request; and

change the name of the crossover, which will remain at MP 114.1, to the “Harriman Crossover”;

• modification to the horizontal directional drill path for the Emory River crossing;

• crossing Little Goose Creek and Goose Creek via one horizontal directional drill crossing; and

• a reduction in the number of construction spreads from three to two.

These modifications will affect 12 new landowners.

The Project Amendment, filed on December 19, 2023, would increase the pipeline diameter from 24 to 30 inches along about 8 miles of pipeline, formerly referred to as the “Lateral” in Morgan and Roane Counties, increasing the Mainline length to about 122.2 miles and eliminating references to this portion of pipeline as the “Lateral.” These modifications would not affect any new landowners.

An overview of the proposed Project is shown in appendix 1.³ A figure that shows the revisions to the Project centerline and workspace compared to what was originally proposed is provided as attachment 1-1a of East Tennessee's December 18, 2023 supplemental filing.⁴

³ The appendices referenced in this notice are not being printed in the Federal Register. Copies of appendices were sent to all those receiving this notice in the mail and are available at www.ferc.gov using the link called “eLibrary.” For instructions on connecting to eLibrary, refer to the last page of this notice.

⁴ East Tennessee's December 18, 2023 supplemental filing can be found at accession number 20231218-5284 at elibrary.ferc.gov.

The NEPA Process and the EIS

The EIS issued by the Commission will discuss impacts that could occur as a result of the construction and operation of the proposed Project under the relevant general resource areas:

• geology and soils;

• water resources and wetlands;

• vegetation and wildlife;

• threatened and endangered species;

• cultural resources;

• socioeconomics and environmental justice;

• land use;

• air quality and noise; and

• reliability and safety.

We will also evaluate possible alternatives to the proposed Project or portions of the Project and make recommendations on how to lessen or avoid impacts on the various resource areas.

As part of our pre-filing review of the Project, we participated in public Open House meetings sponsored by East Tennessee in the project area in June 2022 to explain the environmental review process to interested stakeholders. We also conducted public scoping meetings along the proposed pipeline route in October 2022. We have also contacted federal and state agencies to discuss their involvement in the scoping process and the preparation of the EIS.

The EIS will present the FERC staff's independent analysis of the issues. The U.S. Army Corps of Engineers, U.S. Environmental Protection Agency, U.S. Fish and Wildlife Service, and National Park Service are cooperating agencies in the preparation of the EIS.⁵ FERC staff will prepare a draft EIS which will be issued for public comment. Commission staff will consider all timely comments received during the comment period on the draft EIS and revise the document, as necessary, before issuing a final EIS. Any draft and final EIS will be available in electronic format in the public record through eLibrary ⁶ and the Commission's natural gas environmental documents web page (https://www.ferc.gov/industries-data/natural-gas/environmental-overview/environmental-documents). If eSubscribed, you will receive instant email notification when the environmental document is issued.

⁵ The Council on Environmental Quality regulations addressing cooperating agency responsibilities are at title 40 Code of Federal Regulations (CFR), section 1501.8 (2021).

⁶ For instructions on connecting to eLibrary, refer to the last page of this notice.

Consultations Under Section 106 of the National Historic Preservation Act

In accordance with the Advisory Council on Historic Preservation's implementing regulations for section 106 of the National Historic Preservation Act, we initiated consultation with the applicable State Historic Preservation Offices with the issuance of the September 2023 NOI to solicit their views and those of other government agencies, interested Indian tribes, and the public on the Project's potential effects on historic properties.⁷ The EIS will document findings on the impacts on historic properties and summarize the status of consultations under section 106.

⁷ The Advisory Council on Historic Preservation's regulations are at title 36, Code of Federal Regulations, part 800. Historic properties are defined in those regulations as any prehistoric or historic district, site, building, structure, or object included in or eligible for inclusion in the National Register of Historic Places.

Revised Schedule for Environmental Review

This notice identifies the Federal Energy Regulatory Commission staff's revised schedule for the completion of the EIS for East Tennessee's Ridgeline Expansion Project. The first notice of schedule, issued on September 18, 2023, identified September 20, 2024 as the final EIS issuance date. As discussed above, East Tennessee has proposed an amendment and multiple project changes that precluded FERC staff from completing the environmental review by the draft EIS issuance date. As a result, staff has revised the schedule for issuance of the final EIS, based on an issuance of the draft EIS in May 2024.

Issuance of the Notice of Availability of the final EIS December 20, 2024

90-day Federal Authorization Decision Deadline ⁸ March 20, 2025

⁸ The Commission's deadline applies to the decisions of other Federal agencies, and state agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, an additional notice will be provided so that the relevant agencies are kept informed of the project's progress.

Environmental Mailing List

The environmental mailing list includes federal, state, and local government representatives and agencies; elected officials; environmental and public interest groups; Native American Tribes; other interested parties; affected landowners; and local libraries and newspapers. This list also includes landowners affected by the Project changes who are potential right-of-way grantors, whose property may be used temporarily for Project purposes, or who own homes within certain distances of aboveground facilities. We will update the environmental mailing list as the analysis proceeds to ensure that we send the information related to this environmental review to all individuals, organizations, and government entities interested in and/or potentially affected by the proposed Project.

If you need to make changes to your name/address, or if you would like to remove your name from the mailing list, please complete one of the following steps:

(1) Send an email to GasProjectAddressChange@ferc.gov stating your request. You must include the docket number CP23-516-001 in your request. If you are requesting a change to your address, please be sure to include your name and the correct address. If you are requesting to delete your address from the mailing list, please include your name and address as it appeared on this notice. This email address is unable to accept comments.

OR

(2) Return the attached “Mailing List Update Form” (appendix 2).

Additional Information

In order to receive notification of the issuance of the EIS and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs, at (866) 208-FERC, or on the FERC website at www.ferc.gov using the eLibrary link. Click on the eLibrary link, click on “General Search” and enter the docket number in the “Docket Number” field, excluding the last three digits (i.e., CP23-516). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Public sessions or site visits will be posted on the Commission's calendar located at https://www.ferc.gov/news-events/events along with other related information.

Dated: January 25, 2024.
Debbie-Anne Reese,
Acting Secretary.

[FR Doc. 2024-01906 Filed 1-30-24; 8:45 am]

BILLING CODE 6717-01-P